COMMITTEE FOR PURCHASE FROM PEOPLE WHO ARE BLIND OR SEVERELY DISABLED

Agency Information Collection Activities Proposed Information Collection; Comment Request

ACTION: Submission for OMB review; comment request.

AGENCY: Committee for Purchase from People Who Are Blind or Severely Disabled.

SUMMARY: The Committee has submitted to the Office of Management and Budget for their review the following collection as required by the Paperwork Reduction Act (44 U.S.C. chapter 35).

Committee Form 401—Initial Certification—Qualified Nonprofit Agency Serving People Who Are Blind

Committee From 402—Initial Certification—Qualified Nonprofit Agency Serving People Who Are Severely Disabled

DATES: Interested persons are invited to submit comments about the collection on or before March 4, 2002.

ADDRESSES: Written comments should be addressed to the Office of Information and Regulatory Affairs, Attention: Lauren Wittenberg, Desk Officer, Office of Management and Budget, 725 17th Street, NW., Room 10202, New Executive Office Building, Washington, DC 20503 or be electronically e-mailed to Lauren_Wittenbreg@omb.eop.gov. Requests for copies of documents pertaining to the collection should be addressed to Committee for Purchase From People Who Are Blind or Severely Disabled, Attention: Janet Yandik, Information Management Specialist, Jefferson Plaza 2, Suite 10800, 1421 Jefferson Davis Highway, Arlington, VA 22202-3259 or e-mailed to jyandik@jwod.gov.

SUPPLEMENTARY INFORMATION: The Committee has two initial certification forms, one for nonprofit agencies serving people who are blind and one for nonprofit agencies primarily serving people who have other severe disabilities. The information included on the forms is required to ensure that nonprofit agencies requesting to participate in the Committee's program meet the requirements of the Javits-Wagner-O'Day Act (JWOD), 41 USC 46-48c.

Title: Initial Certification—Qualified Nonprofit Agency Serving People Who Are Blind, Committee Form 401

OMB Number: 3037-0004.

Agency Number: 3037.

Frequency: 1 time.

Affected Public: Nonprofit agencies serving people who are blind seeking to participate in the JWOD program.

Number of Respondents: 5.

Estimated Time Per Respondent: 1 hour.

Total Burden Hours: 5.

Total Annual Costs: $0.

Title: Initial Certification—Qualified Nonprofit Agency Serving People Who Are Severely Disabled, Committee Form 402.

OMB Number: 3037-0003.

Agency Number: 3037.

Frequency: 1 time.

Affected Public: Nonprofit agencies serving people who are severely disabled seeking to participate in the JWOD program.

Number of Respondents: 50

Estimated Time Per Respondent: 1 hour.

Total Burden Hours: 50.

Total Annual Costs: $0.

Sheryl D. Kennerly,
Director, Information Management.

[FR Doc. 02-2518 Filed 1-31-02; 8:45 am]

BILLING CODE 6353-01-P